DEPARTMENT OF LABOR

Office of the Secretary

Agency Recordkeeping/Reporting Requirements Under Emergency Review by the Office of Management and Budget (OMB)

May 18, 2001.

The Department of Labor has submitted the following (see below) emergency processing public information collection request (ICR) to the Office of Management and Budget (OMB) for review and clearance under the Paperwork Reduction Act of 1995 (Pub. L. 104-13, 44 U.S.C. Chapter 35). OMB approval has been requested by June 8, 2001. A copy of this ICR, with applicable supporting documentation, may be obtained by calling the Department of Labor. To obtain documentation, contact Darrin King at (202) 693-4129 or email king-darrin@dol.gov.

Comments and questions about the ICR listed below should be forwarded to Office of Information and Regulatory Affairs, Attn: OMB Desk Officer for the Employment and Training Administration, Office of Management and Budget, Room 10235, Washington, DC 20503 (202) 395-7316.

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of response.

Agency: Employment and Training Administration (ETA).

Title: Re-employment Services Plan Narrative and Progress Report.

OMB Number: 1205-ONEW.

Form | Number of respondents | Responses per year | Total responses | Hours per response | Total burden hours
Annual Plan | 54 | 1 | 54 | 40 | 2,160
Progress Report | 54 | 1 | 54 | 16 | 864
Totals |  | 2 | 108 |  | 3,024

Total Burden Cost (capital/startup): $0.

Total Burden Cost (operating/maintaining): $0.

Description: ETA seeks approval of an annual plan narrative and one annual progress report as requirements for re-employment services allotments. In Program Year 2001 budget for Wagner-Peyser Act, State Employment Service Agencies (SESA) were allocated additional funds for re-employment services to Unemployment Insurance (UI) claimants. The annual plan and progress report will provide necessary information to assist the Secretary in determining if the proposed SESA re-employment services are acceptable and whether or not the purpose of the funds was achieved. Specific reporting is necessary to adequately track this activity separately from regular operations and record keeping. While this collection sets up new requirements, SESA staff can existing frameworks and systems to prepare the plan and collect any new information.

Ira Mills,
Departmental Clearance Officer.

[FR Doc. 01-13177 Filed 5-24-01; 8:45 am]

BILLING CODE 4510-30-M